DEPARTMENT OF TRANSPORTATION

Federal Aviation Administration

Notice of Intent To Rule on a Land Release Request at Bay Bridge Airport (W29), Stevensville, MD

AGENCY: Federal Aviation Administration (FAA), DOT.

ACTION: Notice of request to release airport land.

SUMMARY: The FAA proposes to rule and invites public comment on Queen Anne's County's request for a land release and sale of 8.111 acres of federally obligated airport property at Bay Bridge Airport, Stevensville, MD, to accommodate a commercial development. This acreage was originally purchased with federal financial assistance through the Airport Improvement Program. The proposed use of land after the sale will be compatible with the airport and will not interfere with the airport or its operation.

DATES: Comments must be received on or before April 3, 2020.

FOR FURTHER INFORMATION CONTACT: Comments on this application must be mailed or delivered to the following addresses:

Linda Steiner, Airport Manager, Bay Bridge Airport, 202 Airport Road, Stevensville, MD 21666, (410) 643-4364

and at the FAA Washington Airports District Office:

Matthew Thys, Manager, Washington Airports District Office, 13873 Park Center Road, Suite 490S, Herndon, VA 20171, (703) 487-3980

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by grant agreements. The following is a brief overview of the request.

Queen Anne's County has submitted a land release request seeking FAA approval for the sale and disposal of approximately 8.111 acres of federally obligated airport property to The Gardens of Queen Anne, LLC for the purpose of commercial development. The project will include an inn (hotel), clubhouse, restaurant and retail space. The property is situated on the north side of Pier One Road. Due to this location, the subject area is unable to be utilized for aviation purposes because the airport operations area is located to the south of Pier One Road. Thus, the subject area is inaccessible to aircraft.

The 8.111 acres of land to be released was originally purchased as part of a 24.835-acre parcel with federal financial assistance through the AIP program under Grant Agreement 3-24-0036-17-2005. As foreseen at the time of the execution of this Grant Agreement, the only portion of the 24.835-acre parcel that was required for aeronautical use is the portion of the parcel to the south of Pier One Road. The portion of the proceeds of the sale of this acreage, which is proportionate to the United States' share of the cost of acquisition of such land, will be used consistent with the requirements of 49 U.S.C. 47107(c). The remaining portion of the proceeds of the sale, is considered airport revenue, and will be used in accordance with 49 U.S.C. 47107(b) and the FAA's Policy and Procedures Concerning the Use of Airport Revenue published in the Federal Register on February 16, 1999. The proposed use of the property will not interfere with the airport or its operation.

Issued in Herndon, Virginia.
Matthew Thys,
Manager, Washington Airports District Office.

[FR Doc. 2020-04415 Filed 3-3-20; 8:45 am]

BILLING CODE 4910-13-P